DEPARTMENT OF COMMERCE

National Oceanic and Atmospheric Administration

[RTID 0648-XE728]

Endangered and Threatened Species; Take of Anadromous Fish

AGENCY: National Marine Fisheries Service (NMFS), National Oceanic and Atmospheric Administration (NOAA), Commerce.

ACTION: Notice of receipt of applications for two permit renewals, two permit modifications, and five new permits.

SUMMARY: Notice is hereby given that NMFS has received nine scientific research permit application requests relating to Pacific salmon, steelhead, green sturgeon, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific Standard Time on April 21, 2025.

ADDRESSES: All written comments on the applications should be sent by email to nmfs.wcr-apps@noaa.gov. Please include the permit number in the subject line of the email.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Puget Sound (PS); threatened Snake River (SnkR) fall-run; threatened SnkR spring/summer-run (spr/sum); endangered Upper Columbia River (UCR) spring-run; threatened Upper Willamette River (UWR); threatened Lower Columbia River (LCR); threatened California Coastal (CC); threatened Central Valley spring-run (CVS).

Steelhead (O. mykiss): Threatened Middle Columbia River (MCR); threatened PS; threatened SnkR; threatened UCR; threatened UWR; threatened Northern California (NC); threatened LCR; threatened California Central Valley (CCV).

Chum salmon (O. keta): Threatened Hood Canal summer-run (HCS); threatened Columbia River (CR).

Coho salmon (O. kisutch): threatened Oregon Coast (OC); threatened LCR; southern Oregon/Northern California Coast (SONCC).

Sockeye salmon (O. nerka): Endangered SnkR; threatened Ozette Lake (OL).

Eulachon (Thaleichthys pacificus): Threatened southern Distinct Population Segment (SDPS).

Green sturgeon (Acipenser medirostris): Threatened SDPS.

Rockfish (Sebastes spp.): Endangered Puget Sound/Georgia Basin (PS/GB) boccacio (Sebastes paucispinis); threatened PS/GB Yelloweye rockfish (Sebastes ruberrimus).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1336-10M

Port Blakely Tree Farms (PBTF) is seeking to modify a permit that would authorize them to continue taking juvenile OC and LCR coho salmon; LCR, UWR, and PS Chinook salmon; LCR, PS, and UWR steelhead; and CR chum salmon in order to evaluate factors limiting fish distribution and water quality in streams owned by PBTF. This activity will occur in the lower Columbia River and Puget Sound basins. PBTF is seeking to modify the permit by adding several locations where Port Blakely has recently acquired timberlands, and thus electrofishing may be required to determine stream typing before any forest management activities. Under the modification, they would also increase requested take for UWR Chinook salmon, UWR steelhead, LCR coho salmon, and OC coho salmon.

Juveniles would be collected via backpack electrofishing, handled for identification, and released. The fish would be released back to their capture sites. The goal of the project is to determine the physical characteristics of uppermost fish habitats and quantify conditions that limit their distribution on lands owned in Washington and Oregon. The work is expected to benefit listed species by producing data to be used in conserving and restoring critical habitat. The researchers are not proposing to kill any of the listed fish being taken, but a small number may be killed as an inadvertent result of these activities.

Permit 18696-6R

Idaho Power is seeking to renew a five-year permit that currently allows them to annually capture juvenile and adult SnkR fall-run Chinook salmon, SnkR spr/sum Chinook salmon, SnkR steelhead, and SnkR sockeye salmon while studying bull trout and juvenile white sturgeon in and near Lower Granite Reservoir on the Snake River. The action would continue to take place from the confluence of the Snake and Grande Ronde Rivers up to the first of the Hells Canyon Complex of dams.

The researchers would use small-mesh gill nets, D-ring plankton nets, benthic otter trawls, and hook-and-line angling to capture the fish. The gill net fishing would take place at times (October and November) and in areas (the bottom of the reservoir) that have purposefully been chosen to have the least possible impact on listed fish. When the nets are pulled to the surface, listed species would immediately be released (including by cutting the net, if necessary) and allowed to return to the reservoir. D-ring fishing would take place in June and July, but the same restrictions (immediately releasing listed fish, etc.) would still apply. The same is true for the otter trawls that would take place solely in July and the angling that would be performed from December-March. The research targets species that are not listed, but it would benefit listed salmonids by generating information about the habitat conditions in the Snake River and by helping managers develop conservation plans for all the species that inhabit the area. The researchers are not proposing to kill any of the fish they capture, but a small number of individuals may be killed as an inadvertent result of the activities.

Permit 20047-3R

The University of Washington is seeking to renew a permit that would authorize them to continue to take annually juvenile PS Chinook salmon, PS steelhead, PS/GB DPS bocaccio, PS/GB DPS yelloweye rockfish, HCS chum salmon, and adult SDPS eulachon in order to study the fish communities associated with tidal flats (with and without seagrass) in Puget Sound and coastal Washington.

Juvenile salmon, steelhead, rockfish, and adult eulachon would be collected via beach seine, handled (weighed, measured, and checked for marks or tags), and released. This study would fill current information gaps on how habitat structure impacts higher trophic levels in nearshore habitats in the Pacific Northwest. It would benefit ESA-listed salmon and steelhead recovery by reducing the uncertainty around current ecosystem linkages that are used to select habitat sites to preserve and restore. The researchers are not proposing to kill any of the listed fish being captured, but a small number of fish may be killed as an inadvertent result of these activities.

Permit 28047-2M

The U.S. Fish & Wildlife Service (USFWS) is seeking to modify a five-year permit that currently allows them allow them to take juvenile LCR, UWR, PS, and CC Chinook salmon; CR and HCS chum salmon; LCR, PS, UWR, and NC steelhead; and LCR, OC, and SONCC coho. The fish are taken during efforts to determine the uppermost ranges of several species of fish in more than 20 subbasins in western Oregon and Washington and northern California. The USFWS is seeking to modify the permit by adding several basins, largely in eastern Oregon, and juveniles from several species: UCR chinook and steelhead, SnkR spr/sum and fall Chinook and steelhead, and MCR steelhead. Under the modification, they would also substantially reduce the amount of take they are permitted in western Oregon and Washington and would take no fish in California.

The researchers would continue to use backpack electrofishing units to capture the fish. Once captured, all listed salmonids would simply be identified and immediately released. In all cases, the researchers would be operating near what is already considered to be the upper limit of salmonid trout distribution, so they are unlikely to encounter many listed fish in any case. Regardless, the researchers are not proposing to kill any of the listed fish being captured, but a small number of fish may be killed as an inadvertent result of these activities. The research would produce a large amount of presence/absence data on listed fish and thus help managers plan and carry out land management actions across a broad portion of three states.

Permit 28265

The Washington Department of Fish and Wildlife (WDFW) is seeking a five-year permit that would authorize them to take juvenile and adult LCR Chinook salmon, PS Chinook salmon, LCR coho salmon, LCR steelhead, PS steelhead, UCR steelhead, MCR steelhead, and UCR spring-run Chinook salmon in order to understand the distribution, abundance, and population trends associated with inland freshwater fishes and shellfishes throughout Washington.

Juvenile and adult fish would be collected via backpack-, boat-, or barge-mounted electrofishing units. All listed fish that are captured would be identified by species, allowed to recover, and immediately released back to the site of their capture. The goals of this study are to: (1) identify and quantify freshwater fish and shellfish distributions in Washington streams and rivers, (2) generate data that will inform multispecies occupancy models to understand the relationships between occupancy, habitat, and landscape metrics, (3) develop a statewide database, and (4) develop standardized monitoring methodologies. This work is expected to benefit listed species by providing standardized survey data that would inform conservation and management decisions throughout the state of Washington. The researchers are not proposing to kill any of the listed fish being captured, but a small number of fish may be killed as an inadvertent result of these activities.

Permit 28375

The USFWS is seeking a five-year permit that would authorize them to take juvenile PS Chinook salmon and juvenile and adult PS steelhead in order to assess relative salmon predation vulnerability based on the presence of artificial light at night (ALAN) and to evaluate the attraction of predatory fishes to ALAN. This work will be conducted in Lake Washington in Washington State.

Juvenile and adult fish would be collected via gill nets and angling, and captured fish would be handled, measured, and have their stomach contents analyzed gastric lavage. Gill netting will likely result in the mortality of all fish captured, and the researchers are proposing to kill a small number of ESA-listed fish. Any listed fish found alive upon the retrieval of the nets will be removed quickly and released back into Lake Washington. The goal of this study is to understand the effects of ALAN on juvenile salmon behavior and its impacts on depredation success by non-native species in the Lake Washington system. This work is expected to benefit ESA-listed salmon and steelhead recovery by providing information on the impacts predation has on salmon, and that information, in turn, would be used to help future management actions account for and reduce those impacts.

Permit 28588

The University of Idaho is seeking a five-year permit that would allow them to take SnkR spr/sum Chinook and steelhead while conducting a study on Chinook downstream migration timing and its effects on species productivity. The information would be used to bolster life-cycle modeling for the species and monitor population status in a relatively pristine (and remote) watershed—Big Creek, a tributary to the Middle Fork Salmon River in Idaho.

The researchers would use backpack electrofishing units to capture the fish. Once captured, the fish would be anesthetized, tagged with passive integrated transponder (PIT) tags, measured, allowed to recover, and released. The research would generate information on the species' migration strategies and thus help managers better design recovery strategies and land management plans. It would also generate baseline population information to help managers maintain an understanding of the species' status. The researchers are not proposing to kill any of the fish they capture, but a small number of individuals may be killed as an inadvertent result of the activities.

Permit 28615

The Washington State Department of Ecology is seeking a 5-year permit that would authorize them to take juvenile LCR, SnkR Basin, MCR, UCR, and PS steelhead; LCR, SnkR fall-run, SnkR spr/sum, and UCR spring-run Chinook salmon; CR and HCS summer-run chum salmon, LCR coho salmon, and OL sockeye salmon in order to conduct watershed health monitoring that will provide data on the physical, biological, and chemical aspects of Washington's rivers and streams. This work is conducted throughout the state of Washington.

Juvenile Chinook, chum, coho, sockeye, and steelhead would be collected via backpack electrofishing, handled (measured), and released. The goal of this work is to establish a sampling framework that provides a basis for the quantitative evaluation of the health of Washington's rivers and streams and can provide information on the status, trends, and limiting factors for Washington's fisheries. This work is expected to benefit ESA-listed salmon and steelhead by providing insights into species distribution and habitat quality across the state. The researchers are not proposing to kill any of the listed fish being taken, but a small number may be killed as an inadvertent result of these activities.

Permit 28772

The Pacific States Marine Fisheries Commission is seeking a 5-year permit that would authorize them to take juvenile and adult SDPS green sturgeon, juvenile CVS Chinook salmon, and CCV steelhead in order to assess spawning frequency and spatial and temporal distribution among green sturgeon, and to evaluate the extent to which Oroville Facilities operations influence sturgeon spawning and rearing through effects on flow, temperature, and habitat. This work will be conducted in the Feather River Basin, California.

Juvenile and adult green sturgeon would be collected and observed via ARIS and DIDSON sonar cameras, video, side-scanning sonar, telemetry, hook and line sampling, artificial substrates, D-ring plankton nets, and otter trawls. A small number of green sturgeon eggs and larvae would be intentionally sacrificed for genotyping. This study would not target salmon or steelhead, so any CVS Chinook salmon, or CCV steelhead captured would be immediately released. Juvenile and adult green sturgeon would be captured, handled (anesthetized, weighed, measured, and checked for marks or tags), and released. A subsample of captured green sturgeon would also be tissue sampled and tagged (PIT, acoustic) prior to release. With the exception of the small number of eggs and larvae that would be intentionally killed, the researchers are not proposing to kill any of the juvenile or adult fish being captured, but a small number of fish may be killed as an inadvertent result of these activities.

The goals of this study are to: (1) evaluate migration patterns including residence times and factors affecting them, (2) identify spatial and temporal distribution of all life stages, (3) estimate annual adult green sturgeon abundance, (4) investigate whether sturgeon spawn annually in the Feather River, and (5) identify habitat preferences for all life stages. This work is expected to benefit green sturgeon by providing information to inform management decisions concerning future monitoring programs, operational changes at the Oroville facilities, and habitat enhancement in the lower Feather River.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 17, 2025.
Lisa Manning,
Acting Chief, Endangered Species Division, Office of Protected Resources, National Marine Fisheries Service.

[FR Doc. 2025-04799 Filed 3-19-25; 8:45 am]

BILLING CODE 3510-22-P